SMALL BUSINESS ADMINISTRATION

[Disaster Declaration #20676 and #20677; CONFEDERATED TRIBES AND BANDS OF THE YAKAMA NATION Disaster Number WA-20012]

Presidential Declaration Amendment of a Major Disaster for Public Assistance Only for the Confederated Tribes and Bands of the Yakama Nation

AGENCY: U.S. Small Business Administration.

ACTION: Amendment 1.

SUMMARY: This is an amendment of the Presidential declaration of a major disaster for Public Assistance Only for the Confederated Tribes and Bands of the Yakama Nation (FEMA-4823-DR), dated September 24, 2024. Incident: Wildfires.

DATES: Issued on October 21, 2024.

Incident Period: June 22, 2024, through July 08, 2024.

Physical Loan Application Deadline Date: December 16, 2024.

Economic Injury (EIDL) Loan Application Deadline Date: June 24, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the Confederated Tribes and Bands of the Yakama Nation, dated September 24, 2024, is hereby amended to extend the deadline for filing applications for physical damage as a result of this disaster to December 16, 2024.

All other information in the original declaration remains unchanged.

(Catalog of Federal Domestic Assistance Number 59008)

Rafaela Monchek,
Deputy Associate Administrator, Office of Disaster Recovery & Resilience.

[FR Doc. 2024-25134 Filed 10-29-24; 8:45 am]

BILLING CODE 8026-09-P